DEPARTMENT OF HEALTH AND HUMAN SERVICES

Administration for Children and Families

Final Notice To Announce the Implementation of Required Electronic Submission of State or Tribal Plans, and Program and Financial Reporting Forms for Mandatory Grant Programs

AGENCY: Office of Administration (OA), ACF, HHS.

ACTION: Final notice.

SUMMARY: The Administration for Children and Families (ACF), Office of Administration (OA) is issuing final notice of the implementation of required electronic submission of State or Tribal plans, and program and financial reporting forms for mandatory grant programs to ACF's Online Data Collection system (OLDC). This notice includes responses to comments received under the initial notice published in the Federal Register (78 FR 38989-38891, June 28, 2013). Public comment on the proposed procedures closed on August 27, 2013.

This notice also corrects the absence in the June 28 notice of a reference that required electronic application submission also applies to Tribal plans and reporting.

DATES: Effective October 1, 2013.

FOR FURTHER INFORMATION CONTACT: Karen Shields, Grants Policy Specialist, Department of Health and Human Services, Administration for Children and Families, Division of Grants Policy, 370 L'Enfant Promenade SW., Aerospace Building, 6th Floor East, Washington, DC 20447. Email address: karen.shields@acf.hhs.gov.

SUPPLEMENTARY INFORMATION: ACF has previously afforded recipients of mandatory grant programs the option of submitting State or Tribal plans, and programmatic and financial reporting forms, in both electronic and paper formats. On June 28, 2013, ACF announced that recipients of mandatory grant programs will be required to submit State plans, and programmatic and financial reporting forms electronically.

In response to the June notice, the ACF received several comments. The following information summarizes the comments received and the agency responses.

1. A commenter noted that all references to “State” should be changed to include plans and reporting submitted by Tribes, as well as those required of States, under mandatory grants.

We concur. ACF corrects and apologizes for the error in the original notice. All references to States in the earlier notice also apply to plans and reports required from Tribal grantees and applicants.

2. A commenter asked why required electronic submission would not include submission of reports under a discretionary grant program.

ACF responds that, at present, the requirement for electronic submission of reporting documents, implemented in this and the June 28 notices, applies only to reporting by mandatory grant programs. An announcement concerning requirements for electronic reporting by grantees under discretionary grant programs will be made in the Federal Register in the future. Required electronic submission of applications to discretionary grant programs through www.Grants.gov was announced by ACF in Federal Register notice 76 FR 66721, October 27, 2011.

3. One commenter asked where applicants can obtain a copy of the SF-424M for use by State or Tribal plans, and another commenter requested specific instructions for use of the form.

The form is available on the Grants.gov Web site at: http://apply07.grants.gov/apply/forms/sample/SF424_Mandatory_1_2-V1.2.pdf. ACF Program Offices will provide detailed instructions to grantees and applicants affected by the change to required electronic submission.

4. Two commenters suggested that ACF continue to accept paper submissions of plans and reporting documents when natural disasters, disruptions of mail service, unscheduled electrical or system outages, or other rare events occur that would prevent electronic submission of the documents.

We respond that ACF has the authority to extend the filing deadline in these situations, upon request from the grantee. No exemption request from the electronic filing requirement is required under these circumstances. ACF will allow a paper submission via fax, or as an email attachment, in situations where the use of mail, courier, or overnight delivery service may not be sufficient to meet a specific deadline.

5. Other commenters requested clarification of the electronic submission requirement by asking whether attachments to plans must also be submitted electronically to ACF's OLDC system.

ACF responds that supplemental attachments and documentation to any State or Tribal plan, or to programmatic or financial reporting forms, may be uploaded electronically to OLDC.

6. Another commenter that had been submitting plans and reports in paper format asked if new users of the OLDC system will be given credentials to use OLDC. Upon request, ACF will provide credentials and access to use the OLDC system to all applicants and grantees. Individuals already authorized to use OLDC may need their authorization updated to include additional programs or documents, if applicable. Affected ACF Program Offices will send detailed instructions to grantees and applicants.

7. The same commenter also asked whether submitted State Plans could be viewed by the public through ACF's OLDC system.

ACF responds that the OLDC system does not have the capability to allow viewing of submitted plans or reports by the public. ACF Program Offices that provide public viewing of submitted plans on their Web sites will continue that practice. States and Tribes should follow their internal procedures in making the determination to provide plans and reports for public viewing.

8. A commenter objected to the requirement by some ACF Program Offices that a paper copy of a submitted plan be distributed to the relevant ACF Regional Office. The same commenter also recommended that, once a plan is electronically signed and submitted to OLDC, ACF should not allow subsequent changes to the data unless the grantee is submitting a revised report, according to the reporting instructions.

ACF responds that, with the implementation of this requirement, once a grantee submits its plan or reporting forms into OLDC, the submission of a second paper copy is no longer required. ACF's Regional Office staff will access plans and reports using OLDC, eliminating the requirement for distribution of additional copies. And, we note that once a submission is signed and submitted in OLDC, any revisions, changes, or updates must be made by entering a revised report in OLDC. We note that there is no limit to the number of revised reports a grantee may submit; however, some date restrictions by the cognizant Program Office may apply to submission of revisions.

Statutory Authority: Financial Assistance Management Improvement Act of 1999, Pub. L. 106-107.

Robert Noonan,
Deputy Assistant Secretary for Administration, Administration for Children and Families.

[FR Doc. 2013-23773 Filed 9-30-13; 8:45 am]

BILLING CODE 4184-01-P